DEPARTMENT OF ENERGY

10 CFR Part 430

[Docket No. EERE-2014-BT-STD-0021]

RIN 1904-AD24

Energy Efficiency Program for Residential Products: Energy Conservation Standards for Residential Dishwashers

AGENCY: Office of Energy Efficiency and Renewable Energy, Department of Energy.

ACTION: Reopening of public comment period.

SUMMARY: The U.S. Department of Energy (DOE) has published a notice of proposed rulemaking (NOPR) which is proposing energy conservation standards for residential dishwashers. The comment period for the NOPR pertaining to the energy conservation standards for residential dishwasher products ended February 17, 2015. DOE is reopening the comment period for comments related to the analysis that estimates the potential economic impacts and energy savings that could result from an energy conservation standard for residential dishwashers. Comments will be accepted until March 25, 2015.

DATES: The reopened comment period ends March 25, 2015.

ADDRESSES: Interested persons may submit comments, identified by docket number EERE-2014-BT-STD-0021 and/or Regulation Identification Number (RIN) 1904-AD24, by any of the following methods:

• Federal eRulemaking Portal: http://www.regulations.gov. Follow the instructions for submitting comments.

• Email: ResDishwashers2014STD0021@ee.doe.gov . Include EERE-2014-BT-STD-0021 and/or RIN 1904-AD24 in the subject line of the message.

• Mail: Ms. Brenda Edwards, U.S.Department of Energy, Building Technologies Program, Mailstop EE-5B, 1000 Independence Avenue SW., Washington, DC 20585-0121. If possible, please submit all items on a compact disc (CD), in which case it is not necessary to include printed copies. [Please note that comments and CDs sent by mail are often delayed and may be damaged by mail screening processes.]

• Hand Delivery/Courier: Ms. Brenda Edwards, U.S. Department of Energy, Building Technologies Program, 950 L'Enfant Plaza SW., Suite 600, Washington, DC 20024. Telephone (202) 586-2945. If possible, please submit all items on CD, in which case it is not necessary to include printed copies.

Docket: The docket is available for review at www.regulations.gov, including Federal Register notices, public meeting attendee lists and transcripts, comments, and other supporting documents/materials. All documents in the docket are listed in the www.regulations.gov index. However, not all documents listed in the index may be publicly available, such as information that is exempt from public disclosure. The rulemaking Web page can be found at: http://www1.eere.energy.gov/buildings/appliance_standards/product.aspx/productid/67. This Web page contains a link to the docket for this notice on the regulation.gov site. The www.regulations.gov Web page contains instructions on how to access all documents in the docket, including public comments.

FOR FURTHER INFORMATION CONTACT: Mr. Bryan Berringer, U.S. Department of Energy, Office of Energy Efficiency and Renewable Energy, Building Technologies, EE-2J, 1000 Independence Avenue SW., Washington, DC 20585-0121. Telephone: (202) 586-0371. Email: dishwashers@ee.doe.gov

Ms. Johanna Hariharan, U.S. Department of Energy, Office of the General Counsel, GC-33, 1000 Independence Avenue SW., Washington, DC 20585-0121. Telephone: (202) 287-6307. Email: Johanna.Hariharan@hq.doe.gov.

For further information on how to submit a comment and review other public comments and the docket, contact Ms. Brenda Edwards at (202) 586-2945 or by email: Brenda.Edwards@ee.doe.gov.

SUPPLEMENTARY INFORMATION: On December 19, 2014, DOE published in the Federal Register a notice of proposed rulemaking (NOPR) to update the energy conservation standards for residential dishwashers. 79 FR 76142 . In the NOPR, DOE invited written submission of public comments, to be received by February 17, 2015. On an email dated January 16, 2015, the Association for Home Appliance Manufacturers (AHAM) requested an extension of the public comment period by 60 days. AHAM stated in its request that AHAM required additional time to review the published analysis in order to prepare and submit comments accordingly. DOE has determined that extending the comment period to allow additional time for interested parties to submit comments is appropriate based on the foregoing reason. DOE believes an additional 30-days, providing a total comment period of 90 days, allows sufficient time for submitting inputs regarding DOE's analysis. Accordingly, DOE will consider any comments received by midnight of March 25, 2015, and deems any comments received by that time to be timely submitted.

Issued in Washington, DC, on February 12, 2015.
Kathleen B. Hogan,
Deputy Assistant Secretary for Energy Efficiency, Energy Efficiency and Renewable Energy.

[FR Doc. 2015-03599 Filed 2-20-15; 8:45 am]

BILLING CODE 6450-01-P